CORPORATION FOR NATIONAL AND COMMUNITY SERVICE

Proposed Information Collection; Comment Request

AGENCY: Corporation for National and Community Service.

ACTION: Notice.

SUMMARY: The Corporation for National and Community Service (the Corporation), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed Senior Corps Survey. Senior Corps will require all Senior Corps volunteers and recipients of Senior Companion and RSVP Independent Living services to complete the survey. Senior Corps will require all grantee organizations that participate in the survey to summarize survey results and submit those results to the Corporation.

Copies of the information collection request can be obtained by contacting the office listed in the addresses section of this notice.

DATES: Written comments must be submitted to the individual and office listed in the ADDRESSES section by February 6, 2012.

ADDRESSES: You may submit comments, identified by the title of the information collection activity, by any of the following methods:

(1) By mail sent to: Corporation for National and Community Service, Senior Corps; Attention: Zach Rhein, Program Officer, Room 9408-A; 1201 New York Avenue NW., Washington, DC 20525.

(2) By hand delivery or by courier to: The Corporation's mailroom at Room 8100 at the mail address given in paragraph (1) above, between 9 a.m. and 4 p.m. Eastern Time, Monday through Friday, except Federal holidays.

(3) By fax to: (202) 606-3475, Attention: Zach Rhein, Program Officer

(4) Electronically through http://www.regulations.gov. Individuals who use a telecommunications device for the deaf (TTY-TDD) may call 1-(800) 833-3722 between 8 a.m. and 8 p.m. Eastern Time, Monday through Friday.

FOR FURTHER INFORMATION CONTACT: Zach Rhein, (202) 606-6693, or by email at zrhein@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The proposed instrument will collect information from Senior Companion, Foster Grandparent, and RSVP volunteers as well as from Senior Companion clients and recipients of RSVP Independent Living services. The purpose of CNCS is to provide grantees with a unified performance measure data collection instrument that will facilitate both data collection and analysis. The goals of the survey are to measure the how the act of volunteering impacts Americans age 55 and older, and to measure how volunteers age 55 improve the lives of the older Americans they serve. The information may be collected using an electronic spreadsheet, the eGrants system, or using a paper collection.

The instrument uses items from the Health and Retirement Study (HRS), an ongoing study funded by the National Institute on Aging/NIH (NIA U01AG009740) and Social Security Administration.

Current Action

This is a new information collection request.

Type of Review: New.

Agency: Corporation for National and Community Service.

Title: Senior Corps Survey.

OMB Number: None.

Agency Number: None.

Affected Public: Senior Corps grantee organizations, Senior Companion and Foster Grandparent volunteers, and recipients of Senior Companion and RSVP Independent Living services.

Total Respondents: 787,800.

Frequency: Once per year.

Average Time Per Response: Averages 30 minutes each for 787,800 volunteers and recipients and 2 hours each for 900 grantee organizations.

Estimated Total Burden Hours: 395,700.

Total Burden Cost (capital/startup): None.

Total Burden Cost (operating/maintenance): None.

Comments submitted in response to this notice will be summarized and/or included in the request for Office of Management and Budget approval of the information collection request; they will also become a matter of public record.

Dated: December 1, 2011.
Erwin Tan,
Director, Senior Corps.

[FR Doc. 2011-31466 Filed 12-7-11; 8:45 am]

BILLING CODE 6050-$$-P